ENVIRONMENTAL PROTECTION AGENCY

[FRL-9304-5]

EPA Science Advisory Board Staff Invitation to a Session on Public Involvement in EPA Advisory Activities Supported by the SAB Staff Office

AGENCY: Environmental Protection Agency (EPA).

ACTION: Notice.

SUMMARY: The EPA Science Advisory Board (SAB) Staff Office announces a public session on public involvement in activities related to the Advisory Council on Clean Air Compliance Analysis (the Council), Clean Air Scientific Advisory Committee (CASAC), and the SAB.

DATES: The public session will be held on Wednesday, June 1, 2011 from 1 p.m. to 5 p.m. (Eastern Daylight Time).

ADDRESSES: The session will be held at Potomac Yard Conference Center, One Potomac Yard, 2777 S. Crystal Dr., Arlington, Fourth Floor Conference Center South (S-4370-80).

FOR FURTHER INFORMATION CONTACT: Members of the public who wish to attend must register by contacting Dr. Angela Nugent, Designated Federal Officer (DFO), EPA Science Advisory Board (1400R), U.S. Environmental Protection Agency, 1200 Pennsylvania Avenue, NW., Washington, DC 20460; via telephone/voice mail (202) 564-2218, fax (202) 565-2098; or e-mail at nugent.angela@epa.gov, by May 27, 2011. Persons unable to attend the public session may send written comments to Dr. Angela Nugent by May 27, 2011.

SUPPLEMENTARY INFORMATION: Background: The SAB Staff Office provides management and technical support to the Council, CASAC, and the SAB and their committees and panels. The SAB Staff also provides information to the public about committee activities and how the public can provide input into the science advice process. As part of its effort to continuously strengthen policies and procedures for informing the public and involving them in advisory processes, the SAB Staff Office is holding a public session to receive public input and feedback on current processes. The SAB Staff Office will consider this feedback as it develops additional policies and procedures to support Council, CASAC, and SAB advisory activities.

Established by statute, the Council (42 U.S.C 7612), the CASAC (42 U.S.C. 7409), and the SAB (42 U.S.C. 4365) are EPA's chartered Federal Advisory Committees that provide independent scientific and technical peer review, consultation, advice and recommendations directly to the EPA Administrator on the scientific bases for EPA's actions and programs. Members of the SAB, CASAC, and the Council are appointed by the EPA Administrator. As Federal Advisory Committees, the Council, CASAC, and SAB conduct business in accordance with the Federal Advisory Committee Act (FACA) (5 U.S.C. App. 2) and related regulations. Generally, Council, CASAC and SAB meetings are announced in the Federal Register, conducted in public view, and provide opportunities for public input during deliberations. Additional information about these Federal Advisory Committees may be found at http://www.epa.gov/advisorycouncilcaa, http://www.epa.gov/casac and http://www.epa.gov/sab, respectively.

The SAB Staff Office is holding a public session to receive public input and feedback in four areas: (1) The public access Web sites supporting the Council, CASAC and SAB; (2) public involvement in nomination of experts for committees and panels; (3) public involvement in meeting and report development; and (4) other topics of interest to the public.

Public Access Web Sites Supporting the Council, CASAC and SAB

Three inter-related public access Web sites (http://www.epa.gov/advisorycouncilcaa, http://www.epa.gov/casac and http://www.epa.gov/sab) have been developed to communicate current information about the membership, activities, and reports of the Council, CASAC and SAB and to facilitate public involvement in advisory activities.

The Web sites were designed with the following features: (1) Integration of all information relevant to a specific advisory activity on a single page (e.g. key information related to Agency requests for advice, advisory committee or panel membership, Federal Register Notices, related meetings, draft and final reports, Agency responses to advice); (2) integration of all information relevant for a specific meeting on a single page (e.g. Federal Register Notices, meeting agendas, materials, and minutes); (3) a calendar of meetings that can be organized by day, week, month, or year; (4) “Recent Happenings” and “Recent Additions” sections and related “really simple syndication” (RSS) feeds that highlight opportunities for public input, most recent draft and final reports, and recent Agency responses; (5) a search function that identifies Council, CASAC, and SAB final reports, draft reports, advisory activities, Federal Register notices, meetings, committees and panels, and special-purpose Web pages; and (6) electronic nomination of experts for committees and panels. The SAB Staff Office is seeking public comment on strengthening the clarity, navigability, and usefulness of the Web sites.

Public Involvement in Nomination of Experts for Committees and Panels

The EPA Administrator appoints members to the Council, CASAC, the chartered SAB and SAB Standing Committees. Members of advisory committees and panels are non-EPA scientists, engineers, and economists and other social scientists who are recognized experts in their respective fields. They may come from academia, industry, state, and tribal governments, research institutes and non-governmental organizations throughout the United States. EPA chooses them for their demonstrated ability to examine and analyze environmental issues with objectivity and integrity and for their interpersonal, oral and written communication, and consensus-building skills.

The SAB Staff annually requests nominations from the public for membership on the chartered SAB and SAB Standing Committees. The latest request was published in the Federal Register on April 15, 2011 (76 FR 21349-21350). Members of the public may nominate experts as part of this annual process through the “Nomination of experts” link on the blue navigation bar at http://www.epa.gov/sab.

The SAB Staff Office also forms ad hoc subcommittees and panels under the auspices of the Council, CASAC, and SAB on environmental science topics. As additional expertise is needed, the SAB Staff Office requests for nominations are published in the Federal Register and posted on the public access Web sites. Members of the public may nominate experts for ad hoc sub committees and panels, again through the “Nomination of experts” link on the blue navigation bar at http://www.epa.gov/sab and may comment on candidates being considered for ad hoc committees and panels.

To describe these processes, the SAB Staff has developed: (1) A general overview of the panel formation process [Overview of the Panel Formation Process at the Environmental Protection Agency Science Advisory Board, September 2002 (EPA-SAB-EC-02-010), on the Web at http://yosemite.epa.gov/sab/sabproduct.nsf/WebFiles/OverviewPanelForm/$File/ec02010.pdf)]; and (2) “Frequently Asked Questions about SAB, CASAC, and Council Membership and Establishment of Ad Hoc Panels and Committees” (on the Web at http://yosemite.epa.gov/sab/sabproduct.nsf/WebSABSO/QsandAsRefMembership?OpenDocument).

The SAB Staff Office is seeking public comment on the current process regarding public nomination of experts.

Public Involvement in Meeting and Report Development

FACA and General Services Administration regulations mandate public involvement in committee activities primarily by open access to meetings and records and by providing the public opportunity to submit comments to the advisory committee or panel. Public comment for consideration by EPA's Federal advisory committees and panels has a different purpose from public comment provided to EPA program offices. Therefore, the process for submitting comments to a Federal advisory committee is different from the process used to submit comments to an EPA program office. Members of the public can submit comments for a Federal advisory committee to consider as it develops advice for EPA. Public comments are sent to the Designated Federal Officer. The contact information for the Designated Federal Officer is identified in the Federal Register notice for committee meetings and is made publicly available on the public access Web site.

To participate in advisory activities of the SAB, CASAC, and Council, members of the public can: (1) Contact the appropriate Designated Federal Officer (DFO) or the SAB Staff Office to obtain information on or provide comments about committee activities; (2) attend and observe public meetings and teleconferences; (3) review materials used by committee members in their deliberations; (4) provide written comments for consideration by committee member; (5) present oral statements for consideration by committee members at public meetings during time periods set aside for that purpose; and (6) review minutes of committee meeting and deliberations. The SAB Staff has developed a description of how SAB, CASAC, and Council committees work and how the public can participate through the steps outlined above (A Report of the Science Advisory Board Staff Office; Advisory Committee Meetings and Report Development: Process for Public Involvement, EPA-SABSO-04-001, available on the Web at http://yosemite.epa.gov/sab/SABPRODUCT.NSF/WEBSABSO/participatemeetingsreports?OpenDocument).

The SAB Staff Office is seeking public comment on ways to strengthen public access to information about and public involvement in advisory meetings and report development.

Availability of Meeting Materials: A meeting agenda and other materials for the meeting will be placed on the SAB Web site at http://epa.gov/sab.

Accessibility: For information on access or services for individuals with disabilities, please contact Dr. Nugent at the phone number or e-mail address noted above, preferably at least ten days prior to the meeting, to give EPA as much time as possible to process your request.

Dated: May 4, 2011.
Anthony F. Maciorowski,
Deputy Director, EPA Science Advisory Board Staff Office.

[FR Doc. 2011-11560 Filed 5-10-11; 8:45 am]

BILLING CODE 6560-50-P